ENVIRONMENTAL PROTECTION AGENCY

[ER-FRL-6640-2]

Environmental Impact Statements; Notice of Availability

Responsible Agency: Office of Federal Activities, General Information (202) 5647167 or http://www.epa.gov/compliance/nepa/.

Weekly receipt of Environmental Impact Statements

Filed May 5, 2003, through May 9, 2003,

Pursuant to 40 CFR 1506.9.

EIS No. 030209, DRAFT EIS, AFS, WA, 49 Degrees North Mountain Resort Revised Master Development Plan, Implementation, Colville National Forest, Newport Ranger District, Stevens County, WA, Comment Period Ends: June 30, 2003, Contact: Lynn Kaney (509) 447-7300.

This document is available on the Internet at: http://www.fs.fed.us/r6/colville.

EIS No. 030210, DRAFT EIS, BLM, OR, CA, Upper Klamath River Management Plan, Resource Management Plan Amendments, Implementation, Upper Klamath River stretch between Lake Ewauna, OR, south to Irongate Dam in CA, Comment Period Ends: August 14, 2003, Contact: Larry Frazier (541) 883-6916.

This document is available on the Internet at: http://www.or.blm.gov/Lakeview/kfra/index.htm.

EIS No. 030211, DRAFT EIS, COE, MS, Royal D'Iberville Hotel and Casino Development Project, Construction and Operation, U.S. Army COE Section 10 and 404 Permits, NPDES Permit, City of D'Iberville on the Back Bay, Mississippi Gulf Coast, Harrison, MS, Comment Period Ends: June 30, 2003, Contact: Susan Ivester Rees (251) 694-4141.

EIS No. 030212, FINAL EIS, COE, TX, Bayport Channel Container/Cruise Terminal Project, To Construct and Operate a Marine Terminal Complex on the Bayport Ship Channel, Issuance of Permit, Section 404 and 10 Permits, Harris County, TX, Wait Period Ends: June 16, 2003, Contact: Fred Anthamatten (409) 766-3943.

EIS No. 030213, DRAFT EIS, NRC, SC, H.B. Robinson Steam Electric Plant, Unit No. 2 (RNP), Application for Operating License Renewal of Nuclear Plants for 20-Year, Supplement 13 located on the Shore of Lake Robinson, Darlington and Chesterfield Counties, SC, Comment Period Ends: July 20, 2003, Contact: Richard L. Emch (301) 415-1590.

EIS No. 030214, DRAFT EIS, AFS, KY, Daniel Boone National Forest Project, Proposal to Revise the Land and Resource Management Plan, Implementation, Winchester, Several Counties, KY, Comment Period Ends: August 14, 2003, Contact: Rick Wilcox (859) 745-3156.

This document is available on the Internet at: http://www.southregion.fs.fed/boone/.

EIS No. 030215, FINAL EIS, FHW, SC, Dave Lyle Boulevard Extension, New Location from the S.C. Route 161/Dave Lyle Boulevard Intersection in York County To S.C. Route 75, in the vicinity of the U.S. Route 521/S.C., York County Metropolitan Road Corridor Project, Funding, York and Lancaster Counties, SC, Wait Period Ends: June 16, 2003, Contact: Patrick Tyndall (803) 765-5460.

EIS No. 030216, DRAFT EIS, FHW, OH, OH-161/37 Improvement, from OH-161 (New Albany Bypass) to west of OH-161/37 Interchange with OH-16, Funding, Franklin and Licking Counties, OH, Comment Period Ends: July 18, 2003, Contact: Larry Anderson (614) 469-6896.

EIS No. 030217, DRAFT EIS, NSA, NM, Chemistry and Metallurgy Research Building Replacement Project, Consolidation and Relocation, Los Alamos National Laboratory, Los Alamos County, NM, Comment Period Ends: June 30, 2003, Contact: Elizabeth Withers (505) 667-8690.

EIS No. 030218, FINAL EIS, FRC, WY, MT, ND, Grasslands Pipeline Project, Interstate Natural Gas Pipeline System Construction and Operation, Docket No. CP02-037-000, WY, ND and MT, Wait Period Ends: June 16, 2003, Contact: Rich McGuire (202) 502-6177.

This document is available on the Internet at: http://www.ferc.gov.

EIS No. 030219, FINAL EIS, BLM, NV, Ivanpah Energy Center Project, 500 Megawatt (MW) Gas-Fired Electric Power Generating Station Construction and Operation, Approval, Right-of-Way Grant, BLM Temporary Use Permit, FHWA Permit to Cross Federal Aid Highway, U.S. Army COE Section 10 and 404 Permits and NPDES Permit Issuance, Clark County, NV, Wait Period Ends: June 16, 2003, Contact: Jerrold E. Crockford (505) 599-6333.

EIS No. 030220, FINAL EIS, AFS, WI, Cayuga Project Area, Various Resource Management Projects, Chequamegon-Nicolet National Forest, Great Divide Ranger District, Ashland County, WI, Wait Period Ends: June 16, 2003, Contact: Debra Sigmund (715) 634-4821.

This document is available on the Internet at: http://www.fs.fed.us/r9/cnnf/natres/index.html.

EIS No. 030221, FINAL EIS, NOA, Amendment 13 to the Fishery Management Plan for Summer Flounder, Scup, and Black Sea Bass, Implementation, in the Western Atlantic Ocean, from Cape Harteras, NC, northward to the US-Canadian Border, Wait Period Ends: June 16, 2003, Contact: Steven Kokkinakis (202) 482-3639.

EIS No. 030222, FINAL SUPPLEMENT, COE, CA, Bel Marin Keys Unit V Expansion of the Hamilton Wetland Restoration Project, New and Updated Information, Application for Approval of Permits, Novato Creek, Marin County, CA, Wait Period Ends: June 16, 2003, Contact: Eric Jolliffe (415) 977-8543.

This document is available on the Internet at: http://www.coastalconservancy.ca.gov/belmarin.

EIS No. 030223, FINAL EIS, AFS, MT, Post Fire Vegetation and Fuels Management Project, Fuel Reduction, Bark Beetle Sanitation and Maintenance, and/or Restoration of Vegetative Communities, Beaverhead Deerlodge National Forest, Wisdom and Pintler Ranger Districts, Beaverhead and Deerlodge Counties, MT, Wait Period Ends: June 16, 2003, Contact: Amy Nerbun (406) 683-3948.

EIS No. 030224, DRAFT EIS, DOE, NY, West Valley Demonstration Project, Waste Management, Onsite Management and Offsite Transportation of Radioactive Waste, West Valley, Cattaraugus County, NY, Comment Period Ends: June 30, 2003, Contact: Daniel W. Sullivan (800) 633-5280.

Amended Notices

EIS No. 030198, DRAFT EIS, AFS, NV, Jarbidge Canyon Project, To Implement a Road Management Plan and Construct a Water Projects along the Charleston-Jarbidge Road, and Reconstruct the South Canyon Road, Humbolt-Toiyabe National Forest, Jarbidge Ranger District, ELko County, NV, Comment Period Ends: June 23, 2003, Contact: Jim Winfrey (775) 778-0229.

Revision of FR Notice Published on 5/9/2003: Correction to Contact Person Telephone Number.

EIS No. 030204, FINAL EIS, STB, TX, Bayport Loop New Rail Line, Construction and Operation, Finance Docket No. 34079, Houston, Harris County, TX, Wait Period Ends: June 9, 2003, Contact: Dana White (888) 229-7857.

Revision of FR Notice Published on 5/9/2003: Correction of EIS Status from Draft EIS to Final EIS. Correction of CEQ Comment Period Ending 6/23/2003 to Wait Period Ending 6/9/2003.

Dated: May 13, 2003.
Joseph C. Montgomery,
Director, NEPA Compliance Division, Office of Federal Activities.

[FR Doc. 03-12351 Filed 5-15-03; 8:45 am]

BILLING CODE 6560-50-P